NATIONAL SCIENCE FOUNDATION

Membership of National Science Foundation's Senior Executive Service Performance Review Board

AGENCY: National Science Foundation.

ACTION: Announcement of Membership of the National Science Foundation's Senior Executive Service Performance Review Board.

SUMMARY: This announcement of the membership of the National Science Foundation's Senior Executive Service Performance Review Board is made in compliance with 5 U.S.C. 4314(c)(4).

ADDRESSES: Comments should be addressed to Division Director, Division of Human Resource Management, National Science Foundation, Room 315, 4201 Wilson Boulevard, Arlington, VA 22230.

FOR FURTHER INFORMATION CONTACT: Dr. Judith S. Sunley at the above address or (703) 292-8180.

SUPPLEMENTARY INFORMATION: The membership of the National Science Foundation's Senior Executive Service Performance Review Board is as follows:

Richard Buckius, Acting Chief Operating Officer, Chairperson.

Clifford J. Gabriel, Acting as Office Head, Office of Information and Resource Management, and Chief Human Capital Officer.

Deborah F. Lockhart, Deputy Division Director, Division of Information and Intelligent Systems.

Celeste M. Rohlfing, Deputy Assistant Director, Directorate for Mathematical and Physical Sciences.

Martha A. Rubenstein, Office Head, Office of Budget, Finance and Award Management, and Chief Financial Officer.

Brian W. Stone, Section Head, Antarctic Infrastructure and Logistics Division.

Mark L. Weiss, Division Director, Division of Behavioral and Cognitive Sciences.

Judith S. Sunley, Division Director, Division of Human Resource Management and PRB Executive Secretary.

Dated: August 27, 2014.
Judith S. Sunley,
Division Director, Division of Human Resource Management.

[FR Doc. 2014-21661 Filed 9-10-14; 8:45 am]

BILLING CODE 7555-01-M